DEPARTMENT OF COMMERCE

Census Bureau

Agency Information Collection Activities; Submission to the Office of Management and Budget (OMB) for Review and Approval; Comment Request; Current Population Survey (CPS) 2025 Field Test

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on September 30, 2024, during a 60-day comment period. This notice allows for an additional 30 days for public comments.

Agency: U.S. Census Bureau, Commerce.

Title: Current Population Survey, 2025 Field Test.

OMB Control Number: 0607-XXXX.

Form Number(s): There are no forms. All interviews are conducted using computers.

Type of Request: Regular submission, New Information Collection Request.

Number of Respondents: 50,000.

Average Hours per Response: 10 minutes.

Burden Hours: 33,333.

Needs and Uses: The 2025 Field Test's goal is to test the use of an internet self-response method to measure its success as a possible method of contact and interviewing with the goal of review accuracy, reporting, and representativeness. In addition, should it prove as a viable response method, the goal is to experiment with timing and contacts in order to refine procedures that best fit the needs of CPS. This is the first of two major field tests with the second in 2026, and an ultimate goal to phase in changes to the survey in 2027.

Affected Public: Households.

Frequency: Monthly.

Respondent's Obligation: Voluntary.

Legal Authority: Title 13, U.S.C. 8(b), 141, and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Departmental PRA Compliance Officer, Office of the Under Secretary for Economic Affairs, Commerce Department.

[FR Doc. 2025-02854 Filed 2-19-25; 8:45 am]

BILLING CODE 3510-07-P